DEPARTMENT OF THE INTERIOR

Bureau of Reclamation

Madera Irrigation District Water Supply Enhancement Project

AGENCY: Bureau of Reclamation, Interior.

ACTION: Notice of intent to prepare an environmental impact statement (EIS) and notice of public scoping meeting.

SUMMARY: Pursuant to the National Environmental Policy Act (NEPA), the Bureau of Reclamation (Reclamation) proposes to prepare an EIS for the proposed Madera Irrigation District (MID) Water Supply Enhancement Project (Project), in which MID would construct a groundwater bank on the property known as Madera Ranch, west of the City of Madera, Madera County, CA. The Federal actions include approval from Reclamation for MID to bank a portion of their Central Valley Project (CVP) Friant Division contract water supply outside of its service area in the newly constructed groundwater bank at Madera Ranch and approval to extend the Reclamation-owned 24.2 Canal.

DATES: Reclamation will hold a scoping meeting to seek public input on topics, issues, and alternatives to be considered in the EIS. The scoping meeting will occur on October 22, 2007 at 6:30 p.m.

Written comments should be mailed to Reclamation at the address below by close of business November 5, 2007.

If special assistance is required at the scoping meeting, please contact Ms. Patti Clinton, Reclamation, at (559) 487-5127, TDD (559) 487-5933, or via e-mail at pclinton@mp.usbr.gov no less than five working days prior to the meeting.

ADDRESSES: The scoping meeting will be held at the Madera Irrigation District Office, 2152 Road 28 1/4, Madera, CA 93637.

Written comments on the scope of the environmental document should be sent to Ms. Patti Clinton, Bureau of Reclamation, 1243 N Street, Fresno, CA 93721, via e-mail at pclinton@mp.usbr.gov, or fax to 559-487-5397.

FOR FURTHER INFORMATION CONTACT: Ms. Patti Clinton, Reclamation, at the above address, (559) 487-5127; or MID, 12152 Road 28 1/4, Madera, CA 93637-9199 (559) 268-2483, fax: (559) 673-0564.

SUPPLEMENTARY INFORMATION: In accordance with the California Environmental Quality Act (CEQA), MID approved its Water Supply Enhancement Project in September 2005 based on a Final Environmental Impact Report (EIR)—State Clearing House # 2005031068. At the time, there was no Federal action. Reclamation commented on the draft EIR stating that once MID proposed a Federal action, Reclamation would need to complete and satisfy all NEPA and Endangered Species Act requirements before approving any Federal action. This EIS has been initiated in response to MID's request that Reclamation approve the banking of CVP water outside of its service area in the proposed Madera Ranch water bank, as well as alterations to Federal facilities.

The primary objectives of the Project are to:

• Enhance water supply reliability and flexibility;

• Help maintain water costs at levels that are affordable to farmers;

• Reduce aquifer overdraft;

• Improve groundwater quality; and

• Encourage conjunctive use, where appropriate.

The Project includes facilities necessary to store water in and recover water from the underlying aquifer. Phase 1 would be recharge-related facilities only. Phase 2 would involve supplemental recharge facilities and facilities for recovery of stored water. The water bank would have a total storage capacity of 250,000 acre-feet (AF), and could recharge or recover up to 55,000 AF of water per year.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: August 22, 2007.
Susan M. Fry,
Regional Environmental Officer, Mid-Pacific Region.

[FR Doc. E7-19249 Filed 9-27-07; 8:45 am]

BILLING CODE 4310-MN-P